DEPARTMENT OF TRANSPORTATION

Federal Highway Administration

Environmental Impact Statement: Harris County, Texas

AGENCY: Federal Highway Administration (FHWA), DOT.

ACTION: Notice of Intent (NOI).

SUMMARY: Pursuant to 40 CFR 1508.22 and 43 TAC § 2.5(e)(2), the FHWA and the Texas Department of Transportation (TxDOT) are issuing this notice to advise the public that an environmental impact statement (EIS) will be prepared for the proposed North Houston Highway Improvement Project, in Harris County, Texas. The proposed project and study limits begin at interchange of United States Highway (US) 59 and State Highway (SH) 288 and follow northward along IH 45 to the interchange of IH 45 and Beltway 8 North, a distance of approximately 16 miles. The proposed project area also includes portions of IH 10, IH 610, US 59, SH 288 near the downtown area, and the Hardy Toll Road located north of downtown Houston. The proposed project will be developed in compliance with Section 6002 of the Safe, Accountable, Flexible, Efficient Transportation Equity Act: A Legacy for Users (SAFETEA-LU) and the National Environmental Policy Act (NEPA).

FOR FURTHER INFORMATION CONTACT: Gregory Punske, P.E., District Engineer, Federal Highway Administration—Texas Division, 300 East 8th Street, Room 826, Austin, Texas 78701. Telephone: 512-536-5960.

SUPPLEMENTARY INFORMATION: The North-Hardy Planning Studies: Alternative Analysis Report (Highway Component) was completed in November 2005. The report evaluated the alternatives for transportation improvements within the study corridor and recommended a locally preferred alternative to meet the corridor's highway transportation needs, while minimizing impacts to the surrounding environment.

Projected increases in population and employment in the Houston metropolitan area will contribute to additional IH 45 congestion, which is already serious to severe. The proposed project is needed to address the serious to severe congestion and to accommodate existing and anticipated future traffic. Additionally the project is needed to bring the roadway up to current design standards, which would improve safety and provide for more efficient movement of people and goods. Additional efficiency is also needed to aid in evacuation events. The purpose of the proposed project is to manage the traffic congestion in the IH 45 corridor, improve mobility, provide expanded transit and carpool opportunities, bring the roadway facility up to current design standards to improve safety and operations, and expand capacity for emergency evacuations.

The EIS will evaluate potential impacts from construction as well as routine operations of the proposed project, including, but not limited to the following: Impacts or potential displacements to residents and businesses; impacts to air and noise; impacts to water quality; impacts to waters of the United States; impacts to historic and archeological resources; impacts to hazardous materials; impacts to floodplains; impacts to socio-economic resources (including environmental justice and limited English proficiency populations); indirect impacts; cumulative impacts; impacts to land use; impacts to vegetation; and impacts to wildlife.

A Project Coordination Plan will be provided in accordance with Public Law 109-59, Safe, Accountable, Flexible, Efficient Transportation Equity Act: A Legacy for Users (SAFETEA-LU), Title VI, Subsection 6002, Efficient Environmental Reviews for Project Decision Making, August 10, 2005, to facilitate and document the lead agencies, structure interaction with the public and other agencies, and to inform the public and other agencies of how the coordination will be accomplished. The Project Coordination Plan will promote early and continuous involvement from stakeholders, agencies, and the public as well as describe the proposed project, the roles of the agencies and the public, the project need and purpose, schedule, level of detail for alternatives analysis, methods to be used in the environmental analysis, and the proposed process for coordination and communication.

The Project Coordination Plan is designed to be part of a flexible and adaptable process. The Project Coordination Plan will be available for public review, input, and comment at public meetings, including scoping meetings and hearings, held in accordance with the National Environmental Policy Act (NEPA) through the evaluation process. Pursuant to 23 U.S.C. Chapter 1, Subchapter 1, Section 139 of SAFETEA-LU, cooperating agencies, participating agencies and the public will be given an opportunity for input in the development of the project. The first of a series of public scoping meetings, conducted in an open house format, is planned to be held in the fall of 2011. As part of the NEPA process, this meeting will be the first in a series of meetings to solicit public comments throughout the planning process.

A scoping meeting is an opportunity for participating agencies, cooperating agencies and the public to be involved in defining the need for and purpose of the proposed project, to assist in determining the range of alternatives considered in the draft EIS, and to comment on methods to evaluate alternatives. Public scoping meetings and a public hearing will be held during appropriate phases of the project development process. Public notices will be published in general circulation newspapers in the project area at least 30 days prior to the meeting, and again approximately 10 days prior to the meeting. The notices will be published in English and Spanish stating the date, time, and location of each. The Draft EIS will be available for public and agency review and comment prior to a public hearing.

To ensure that the full range of issues related to this proposed action are addressed and all significant issues identified, comments and suggestions are invited from all interested parties. Comments or questions concerning this proposed action and the EIS should be directed to FHWA at the address provided.

(Catalog of Federal Domestic Assistance Program Number 20.205, Highway Research, Planning, and Construction. The regulations implementing Executive Order 12372, regarding intergovernmental consultation on Federal programs and activities, apply to this program.)

Issued on: October 13, 2011.
Gregory S. Punske,
District Engineer, Austin, Texas.

[FR Doc. 2011-27359 Filed 10-21-11; 8:45 am]

BILLING CODE 4910-22-P